FEDERAL COMMUNICATIONS COMMISSION

Scheduled Change and Deletion of Agenda Item From April 27, 2012, Open Meeting

Date: April 25, 2012.

The following item has been deleted from the list of Agenda items scheduled for consideration at the Friday, April 27, 2012, Open Meeting and previously listed in the Commission's Notice of April 20, 2012. Also, please note that the time for the Open Meeting is rescheduled from 10:30 a.m. to 10 a.m.

Item No. | Bureau | Subject
2 | MEDIA | TITLE: Noncommercial Educational Station Fundraising for Third-Party Non-Profit Organizations
|  | SUMMARY: The Commission will consider a Notice of Proposed Rulemaking inviting comment on whether to allow noncommercial educational broadcast stations to conduct on-air fundraising activities that interrupt regular programming for the benefit of third-party non-profit organizations.

Federal Communications Commission.
Marlene H. Dortch,
Secretary, Office of the Secretary, Office of Managing Director.

[FR Doc. 2012-10639 Filed 5-2-12; 8:45 am]

BILLING CODE 6712-01-P